DEPARTMENT OF TRANSPORTATION

Federal Aviation Administration

14 CFR Part 39

[Docket No. FAA-2007-27016; Directorate Identifier 2006-NM-176-AD; Amendment 39-15066; AD 2007-11-09]

RIN 2120-AA64

Airworthiness Directives; Bombardier Model DHC-8-400 Series Airplanes

AGENCY: Federal Aviation Administration (FAA), Department of Transportation (DOT).

ACTION: Final rule.

SUMMARY: The FAA is superseding an existing airworthiness directive (AD), which applies to certain Bombardier Model DHC-8-400 series airplanes. That AD currently requires inspecting the electrical connectors of the fire bottles for the forward and aft baggage compartments and for the auxiliary power unit (APU) and engine nacelles to determine if they are connected correctly, and doing related investigative and corrective actions if necessary. This new AD adds a requirement to install/modify lanyards, mounts, and clamps to the forward and aft baggage compartment, APU, and engine nacelle fire extinguishing systems. This new AD also requires revising the aircraft maintenance manual to incorporate installation and removal procedures for certain fire bottles and fire extinguisher cartridges. This new AD also adds two airplanes to the applicability. This AD results from reports of the electrical connectors for the fire bottles in the forward and aft baggage compartments, APU, and engine nacelle being cross-connected. We are issuing this AD to detect and correct cross-connection of the fire bottles and to prevent cross-connection, which could result in failure of the fire bottles to discharge and consequent inability to extinguish a fire in the affected areas.

DATES: This AD becomes effective June 29, 2007.

The Director of the Federal Register approved the incorporation by reference of certain publications listed in the AD as of June 29, 2007.

On July 5, 2005 (70 FR 35172, June 17, 2005), the Director of the Federal Register approved the incorporation by reference of Bombardier Alert Service Bulletin A84-26-06, dated May 12, 2005.

ADDRESSES: You may examine the AD docket on the Internet at http://dms.dot.gov or in person at the Docket Management Facility, U.S. Department of Transportation, 400 Seventh Street, SW., Nassif Building, Room PL-401, Washington, DC.

Contact Bombardier, Inc., Bombardier Regional Aircraft Division, 123 Garratt Boulevard, Downsview, Ontario M3K 1Y5, Canada, for service information identified in this AD.

FOR FURTHER INFORMATION CONTACT: Ezra Sasson, Aerospace Engineer, Systems and Flight Test Branch, ANE-172, FAA, New York Aircraft Certification Office, 1600 Stewart Avenue, Suite 410, Westbury, New York 11590; telephone (516) 228-7320; fax (516) 794-5531.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that supersedes AD 2005-12-17, amendment 39-14133 (70 FR 35172, June 17, 2005). The existing AD applies to certain Bombardier Model DHC-8-400 series airplanes. That NPRM was published in the Federal Register on January 26, 2007 (72 FR 3756). That NPRM proposed to require inspecting the electrical connectors of the fire bottles for the forward and aft baggage compartments and for the auxiliary power unit (APU) and engine nacelles to determine if they are connected correctly; and doing related investigative and corrective actions, if necessary. That NPRM proposed to add a requirement to install/modify lanyards, mounts, and clamps to the forward and aft baggage compartment, APU, and engine nacelle fire extinguishing systems. That NPRM also proposed to require installation and removal procedures for certain fire bottles and fire extinguisher cartridges. That NPRM also proposed to add two airplanes to the applicability.

Comments

We provided the public the opportunity to participate in the development of this AD. No comments have been received on the NPRM or on the determination of the cost to the public.

Change to Installation and Removal Requirement

We have revised the requirement specified in paragraph (h) of the NPRM. Paragraph (h) of the NPRM specifies to do certain installations and removals of the fire bottles and cartridges in accordance with a method approved by the FAA or Transport Canada Civil Aviation (or its delegated agent). Paragraph (h) of the NPRM also specifies that Bombardier Dash 8 Series 400 Aircraft Maintenance Manual, Product Support Manual (PSM) 1-84-2, Revision 22, dated June 5, 2006, is one approved method.

We have determined that operators need to only revise the FAA-approved maintenance program to incorporate the information for those installations and removals of the fire bottles and cartridges specified in Bombardier Dash 8 Series 400 Aircraft Maintenance Manual, Product Support Manual (PSM) 1-84-2, Revision 22, dated June 5, 2006. This will place less of a burden on operators because operators will not need to make a maintenance log entry to show compliance every time one of the installations or removals is done. We have revised paragraph (h) of this AD accordingly.

Clarification of Alternative Method of Compliance (AMOC) Paragraph

We have revised this action to clarify the appropriate procedure for notifying the principal inspector before using any approved AMOC on any airplane to which the AMOC applies.

Conclusion

We have carefully reviewed the available data and determined that air safety and the public interest require adopting the AD with the changes described previously. We have determined that these changes will neither increase the economic burden on any operator nor increase the scope of the AD.

Costs of Compliance

The following table provides the estimated costs for U.S. operators to comply with this AD.

Estimated Costs
Action | Work hours | Average labor rate per hour | Parts | Cost per airplane | Number of U.S.-registered airplanes | Fleet cost
Inspection (required by AD 2005-12-17) | 2 | $80 | $0 | $160 | 19 | $3,040.
Modification (new action) | 4 | 80 | Up to $200 | 520 | 21 | Up to $10,920.
Revision | 1 | 80 | 0 | 80 | 19 | $1,520.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14133 (70 FR 35172, June 17, 2005) and by adding the following new airworthiness directive (AD):

2007-11-09 Bombardier, Inc. (Formerly de Havilland, Inc.): Amendment 39-15066. Docket No. FAA-2007-27016; Directorate Identifier 2006-NM-176-AD.

Effective Date

(a) This AD becomes effective June 29, 2007.

Affected ADs

(b) This AD supersedes AD 2005-12-17.

Applicability

(c) This AD applies to Bombardier Model DHC-8-400 series airplanes, certificated in any category; serial numbers (S/Ns) 4001 through 4107 inclusive.

Unsafe Condition

(d) This AD results from reports of the electrical connectors for the fire bottles in the forward and aft baggage compartments, auxiliary power unit (APU), and engine nacelle being cross-connected. We are issuing this AD to detect and correct cross-connection of the fire bottles and to prevent cross-connection, which could result in failure of the fire bottles to discharge and consequent inability to extinguish a fire in the affected areas.

Compliance

(e) You are responsible for having the actions required by this AD performed within the compliance times specified, unless the actions have already been done.

Restatement of Requirements of AD 2005-12-17

Inspection and Corrective Action

(f) For airplanes having S/Ns 4001 through 4105 inclusive: Within 14 days after July 5, 2005 (the effective date of AD 2005-12-17), inspect the electrical connectors of the fire bottles for the forward and aft baggage compartments and for the APU and engine nacelles to determine if they are connected correctly; and, before further flight, do the related investigative and corrective actions, as applicable; by doing all of the applicable actions specified in the Accomplishment Instructions of Bombardier Alert Service Bulletin A84-26-06, dated May 12, 2005; or Revision ‘A,' dated June 6, 2005. Although the service bulletins specify to submit certain information to the manufacturer, this AD does not include that requirement.

New Requirements of This AD

Installation/Modification

(g) For all airplanes: Within 5,000 flight hours after the effective date of this AD, install/modify lanyards, mounts, and clamps to the forward and aft baggage compartment, APU, and engine nacelle fire extinguishing systems by doing all the actions specified in the Accomplishment Instructions of Bombardier Service Bulletin 84-26-07, Revision ‘B,' dated November 1, 2006.

Revision of Aircraft Maintenance Manual

(h) For airplanes having S/Ns 4001 through 4105 inclusive: Within 30 days after the effective date of this AD, incorporate the information in the page blocks of Bombardier Dash 8 Series 400 Aircraft Maintenance Manual (AMM), Product Support Manual (PSM) 1-84-2, Revision 22, dated June 5, 2006, specified in paragraphs (h)(1), (h)(2), (h)(3), (h)(4), (h)(5), (h)(6), and (h)(7) of this AD, into the FAA-approved maintenance program to specify an installation and removal of nacelle fire bottles, an installation of aft high-rate fire bottles, an installation of forward high-rate fire bottles, an installation and removal of low-rate fire bottles, an installation of APU fire bottles, an installation and removal of low-rate fire extinguisher cartridges, and an installation and removal of nacelle fire extinguisher cartridges, in accordance with a method approved by either the Manager, New York Aircraft Certification Office (ACO), FAA; or Transport Canada Civil Aviation (or its delegated agent). The page blocks of the Bombardier Dash 8 Series 400 AMM specified in paragraphs (h)(1), (h)(2), (h)(3), (h)(4), (h)(5), (h)(6), and (h)(7) of this AD, are one approved method for the actions required by this paragraph.

(1) Chapter 26-21-01, Page Block 401, dated December 5, 2005.

(2) Chapter 26-21-06, Page Block 401, dated December 5, 2005.

(3) Chapter 26-22-02, Page Block 401, dated December 5, 2005.

(4) Chapter 26-22-03, Page Block 401, dated December 5, 2005.

(5) Chapter 26-22-11, Page Block 401, dated December 5, 2005.

(6) Chapter 26-22-16, Page Block 401, dated December 5, 2005.

(7) Chapter 26-23-01, Page Block 401, dated December 5, 2005.

Actions Accomplished According to Previous Issue of Service Bulletin

(i) Actions accomplished before the effective date of this AD in accordance with Bombardier Service Bulletin 84-26-07, dated June 15, 2005; and Revision ‘A,' dated February 21, 2006; are considered acceptable for compliance with the corresponding action specified in paragraph (g) of this AD, provided the intended restriction of the connectors was done as specified in Bombardier Service Bulletin 84-26-07, Revision ‘B,' dated November 1, 2006.

Alternative Methods of Compliance (AMOCs)

(j)(1) The Manager, New York ACO, FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Related Information

(k) Canadian airworthiness directive CF-2005-14R1, dated May 8, 2006, also addresses the subject of this AD.

Material Incorporated by Reference

(l) You must use the service information identified in Table 1 of this AD to perform the actions that are required by this AD, unless the AD specifies otherwise.

Table 1.—All Material Incorporated by Reference
Bombardier Service Bulletin | Revision level | Date
A84-26-06 | Original | May 12, 2005.
A84-26-06 | ‘A’ | June 6, 2005.
84-26-07 | ‘B’ | November 1, 2006.

(1) The Director of the Federal Register approved the incorporation by reference of Bombardier Alert Service Bulletin A84-26-06, Revision ‘A,’ dated June 6, 2005; and Bombardier Service Bulletin 84-26-07, Revision ‘B,’ dated November 1, 2006; in accordance with 5 U.S.C. 552(a) and 1 CFR part 51.

(2) On July 5, 2005 (70 FR 35172, June 17, 2005), the Director of the Federal Register approved the incorporation by reference of Bombardier Alert Service Bulletin A84-26-06, dated May 12, 2005.

(3) Contact Bombardier, Inc., Bombardier Regional Aircraft Division, 123 Garratt Boulevard, Downsview, Ontario M3K 1Y5, Canada, for a copy of this service information. You may review copies at the FAA, Transport Airplane Directorate, 1601 Lind Avenue, SW., Renton, Washington; or at the National Archives and Records Administration (NARA). For information on the availability of this material at NARA, call 202-741-6030, or go to: http://www.archives.gov/federal-register/cfr/ibr-locations.html.

Issued in Renton, Washington, on May 15, 2007.
Ali Bahrami,
Manager, Transport Airplane Directorate, Aircraft Certification Service.

[FR Doc. E7-10035 Filed 5-24-07; 8:45 am]

BILLING CODE 4910-13-P